NATIONAL INSTITUTE FOR LITERACY

Overview Information; Literacy Information and Communication (LINCS) Resource Collections; Notice Inviting Applications for New Awards for Fiscal Year (FY) 2006

Catalog of Federal Domestic Assistance (CFDA) Number: 84.257S.

Dates:

Applications Available: August 7, 2006.

Deadline for Transmittal of Applications: September 11, 2006.

Deadline for Intergovernmental Review: September 11, 2006.

Eligible Applicants: Public and private agencies or institutions, or non-profit organizations, with knowledge and expertise in adult basic education and adult literacy; or consortia of such agencies, institutions, or organizations. Additional information concerning eligibility requirements is in Section III.1. of this notice.

Estimated Available Funds: $650,000.

Estimated Range of Awards: $175,000-$215,000.

Estimated Average Size of Awards: $200,000.

Estimated Number of Awards: Up to 3.

Note: The National Institute for Literacy is not bound by any estimates in this notice.

Project Period: Up to 36 months. Each grantee will be required to enter into a cooperative agreement with the National Institute for Literacy (Institute) for the duration of the project period.

Full Text of Announcement

I. Funding Opportunity Description

Purpose of Program: The purpose of the Literacy Information and Communication (LINCS) Resource Collections (Collections) is to develop, organize, and support online subject-oriented collections of instructional resources, including multi-media resources, informed by highest-quality research, especially scientifically based and other rigorous research, for use by adult education and literacy educators. The Collections also shall provide information on how to use the featured resources to enhance teaching and learning.

In addition, the Collections shall provide technical assistance on the content and use of the collections through presentations, workshops, and informational materials provided to adult education and literacy program administrators, project directors, and professional development staff. Limited technical assistance shall be provided via telephone and e-mail.

The LINCS Resource Collections are grouped into three main categories: I. Basic Skills; II. Program Planning; or III. Workforce Competitiveness.

I. Basic Skills Resource Collection shall focus on locating, reviewing, and selecting high-quality instructional materials, resources, and research on reading, writing, mathematics and numeracy for use by adult educators to improve instruction in basic skills.

1. Reading & Writing.

2. Mathematics & Numeracy.

II. Program Planning Resource Collection shall focus on locating, reviewing and selecting high-quality instructional materials, resources, and research on assessment, learning disabilities, and program improvement for use by adult education and literacy program administrators, project directors and professional development staff. The combination of topics is intended to direct attention to the role that assessments and awareness of learning disabilities can play in strengthening the quality of adult education services and learner outcomes.

1. Assessment.

2. Learning Disabilities.

3. Program Improvement.

III. Workforce Competitiveness Resource Collection shall focus on locating, reviewing, and selecting high-quality instructional materials, resources, and research on workforce basic skills education, English language acquisition, and technology. The combination of topics in this collection is intended to encourage special attention to (a) the development of connections between resources that support the acquisition of English language literacy with preparation for and participation in the workforce and (b) the role technology can play in supporting both English language acquisition and workforce basic skills.

1. English Language Literacy.

2. Technology.

3. Workforce Education.

The Collections are intended to play a vital role in helping the Institute fulfill its authorization to establish a national electronic database of information that disseminates information to the broadest possible audience within the literacy and basic skills field and a communication network for literacy programs, providers, social service agencies, and students. These grants will be awarded as cooperative agreements, as the Institute will be substantially involved with the grantees in the implementation of the funded activities. Applicants should specify which Resource Collection (I. Basic Skills; II. Program Planning; or III. Workforce Competitiveness) they are submitting an application for in their proposals. Grantees will be responsible for each of the subject areas within their selected categories.

For background information on the Institute and LINCS, please visit: http://www.nifl.gov/nifl/grants_contracts/info.html.

Program Authority: 20 U.S.C. 9252.

Applicable Regulations: For purposes of this grant competition, the following regulations from the Education Department General Administrative Regulations (EDGAR) are applicable: 34 CFR parts 74, 75, 79, 80, 82, 84, 85, and 97.

II. Award Information

Type of Award: Cooperative agreements.

Estimated Available Funds: $650,000.

Estimated Range of Awards: $175,000-$215,000.

Estimated Average Size of Awards: $200,000.

Estimated Number of Awards: Up to 3.

Note: The Institute is not bound by any estimates in this notice.

Project Period: Up to 36 months. Continuation awards are contingent on a grantee's progress and future Congressional appropriations.

III. Eligibility Information

1. Eligible Applicants: Public and private agencies or institutions, or non-profit organizations, with knowledge and expertise in adult basic education and adult literacy; or consortia of such agencies, institutions, or organizations. It is expected that applicants shall have significant knowledge and experience with the adult education and literacy system; understand current issues in adult education and literacy, especially content areas and professional development; and be familiar with researchers and experts in the adult education and literacy field, reading, learning disabilities, and research methods.

2. Cost Sharing or Matching: Although this program does not require cost sharing or matching for eligibility, the Institute encourages applicants to provide some institutional financial commitment to the project.

IV. Application and Submission Information

1. Address to Request Application Package: Jo Maralit; National Institute for Literacy; 1775 I Street, NW., Suite 730; Washington, DC 20006; Telephone: 202-233-2028; fax: 202-233-2050; e-mail: mmaralit@nifl.gov.

If you use a telecommunications device for the deaf (TDD), you may call the Federal Relay Service (FRS) at 1-800-877-8339. Individuals with disabilities may obtain a copy of the application package in an alternative format (e.g., Braille, large print, audiotape, or computer diskette) by contacting the program contact person listed in this section.

2. Content and Form of Application Submission: Requirements concerning the content of an application, together with the forms you must submit, are in the application package for this competition.

Page Limit: The application narrative (Part IV of the application) is where you, the applicant, address the selection criteria that reviewers use to evaluate your application. The Director strongly encourages applicants to limit Part IV to the equivalent of no more than 20 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The suggested page limit does not apply to Part I, the cover sheet; Part V, the budget section, including the narrative budget justification; Part VII, the assurances and certifications; or the one-page abstract, the resumes, the bibliography, or the letters of support. However, you must include all of the application narrative in Part IV.

3. Submission Dates and Times: Applications Available: August 7, 2006.

Deadline for Transmittal of Applications: September 11, 2006.

Applications for grants under this application notice may be submitted electronically using the Grants.gov Apply site (www.grants.gov), or in paper format by mail or hand delivery. For information (including dates and times) about how to submit your application electronically, or by mail or hand delivery, please refer to section IV.6. Other Submission Requirements in this notice.

Deadline for Intergovernmental Review: September 11, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications

Electronic submissions of applications have been submitted electronically through the U.S. Department of Education's e-Application system since FY 2000. In order to expand on those efforts and comply with the President's Management Agenda, the Institute is participating as a partner in the new government wide Grants.gov Apply site in FY 2006. The Institute's LINCS Resource Collections application notice (CFDA Number 84.257S) is one of the programs included in this project. We request your participation in Grants.gov.

If you choose to submit your application electronically, you must use the Grants.gov Apply site at http://www.grants.gov. Through this site, you will be able to download a copy of the application package, complete it offline, and then upload and submit your application. You may not e-mail an electronic copy of a grant application to us.

You may access the electronic grant application for LINCS Resource Collections at: http://www.grants.gov. You must search for the downloadable application package for this program by the CFDA number. Do not include the CFDA number's alpha suffix in your search.

Notes:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the U.S. Department of Education Submission Procedures for submitting an application through Grants.gov that are included in the application package for this application notice to ensure that you submit your application in a timely manner to the Grants.gov system. You can also find the U.S. Department of Education Submission Procedures pertaining to Grants.gov at http://e-Grants.ed.gov/help/GrantsgovSubmissionProcedures.pdf.

• To submit your application via Grants.gov, you must complete the steps in the Grants.gov registration process (see http://www.Grants.gov/GetStarted) and provide on your application the same D-U-N-S Number used with this registration. Please note that the registration process may take five or more business days to complete.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Institute will retrieve your application from Grants.gov and send you a second confirmation by e-mail that will include a PR/Award number (an Institute-specified identifying number unique to your application).

• We may request that you provide us original signatures on forms at a later date.

Application Deadline Date Extension in Case of System Unavailability: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under For Further Information Contact, and provide an explanation of the technical problem you experienced with Grants.gov, along with the Grants.gov Support Desk Case Number (if available). The Institute will accept your application if we can confirm that a technical problem occurred with the Grants.gov system and that that problem affected your ability to submit your application by 4:30 p.m., Washington, DC time, on the application deadline date. The Institute will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail

If you submit your application in paper format by mail (through the U.S. Postal Service or a commercial carrier), your package should include one original plus two copies of the application. Three additional copies (for a total of six applications) are requested, but not required. Each application should be clipped or stapled, not bound or enclosed in a folder and submitted on or before the application deadline date, to the Institute at the applicable following address:

By mail through the U.S. Postal Service: National Institute for Literacy, Attention: (CFDA Number 84.257S), 1775 I Street, NW., Suite 730, Washington, DC 20006-2417; or

By mail through a commercial carrier: National Institute for Literacy, Attention: (CFDA Number 84.257S), 1775 I Street, NW., Suite 730, Washington, DC 20006-2417, phone: 202-233-2025.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Director of the Institute.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Institute at the following address: National Institute for Literacy, Attention: (CFDA Number 84.257S), 1775 I Street, NW., Suite 730, Washington, DC 20006-2417.

The National Institute for Literacy accepts hand deliveries daily between 8 a.m. and 4:30 p.m., Washington, DC time, except Saturdays, Sundays and Federal holidays.

Note for Mail or Hand Delivery of Paper Applications: If you mail or hand deliver your application to the Institute:

(1) You must indicate on the envelope and Item 4 of the Application for Federal Education Assistance (ED 424) the CFDA number—and suffix letter—of the competition under which you are submitting your application. For the LINCS Resource Collections competition: CFDA Number 84.257S.

(2) The Institute will mail a grant application receipt acknowledgment to you. If you do not receive the grant application receipt acknowledgment within 15 business days from the application deadline date, you should call the National Institute for Literacy at 202-233-2025.

V. Application Review Information

1. Selection Criteria: The selection criteria for this program are from section 75.210 of EDGAR, 34 CFR 75.210, and are as follows. The maximum possible score for all of these criteria is 100 points. The maximum possible score for each criterion is indicated in parentheses following the criterion.

1. Quality of the project design. (20 points).

(1) The Director considers the quality of the design of the proposed project.

(2) In determining the quality of the design of the proposed project, the Director considers the following factors:

(i) The extent to which the goals, objectives, and outcomes to be achieved by the proposed project are clearly specified and measurable.

(ii) The quality of the proposed demonstration design and procedures for documenting project activities and results.

(iii) The extent to which the proposed project will be coordinated with similar or related efforts, and with other appropriate community, State, and Federal resources.

(iv) The extent to which the proposed project will establish linkages with other appropriate agencies and organizations providing services to the target population.

2. Quality of project services. (20 points)

(1) The Director considers the quality of the services to be provided by the proposed project.

(2) In determining the quality of the services to be provided by the proposed project, the Director considers the quality and sufficiency of strategies for ensuring equal access and treatment for eligible project participants who are members of groups that have traditionally been underrepresented based on race, color, national origin, gender, age, or disability.

(3) In addition, the Director considers the following factors:

(i) The extent to which entities that are to be served by the propsoed project techical assistance project demonstrate support for the project.

(ii) The extent to which the services to be provided by the proposed project reflect up-to-date knowledge from research and effective practice.

(iii) The extent to which the training or professional development services to be provided by the proposed project are of sufficient quality, intensity, and duration to lead to improvements in practice among the recipients of those services.

(iv) The extent to which the services to be provided by the proposed project involve the collaboration of appropriate partners for maximizing the effectiveness of project services.

(v) The extent to which the technical assistance services to be provided by the proposed project involve the use of efficient strategies, including the use of technology, as appropriate, and the leveraging of non-project resources.

3. Quality of project personnel. (25 points)

(1) The Director considers the quality of the personnel who will carry out the proposed project.

(2) In determining the quality of project personnel, the Director considers the extent to which the applicant encourages applications for employment from persons who are members of groups that have traditionally been underrepresented based on race, color, national origin, gender, age, or disability.

(3) In addition, the Director considers the following factors:

(i) The qualifications, including relevant training and experience, of the project director or principal investigator.

(ii) The qualifications, including relevant training and experience, of key project personnel.

(iii) The qualifications, including relevant training and experience, of project consultants or subcontractors.

4. Adequacy of resources. (25 points)

(1) The Director considers the adequacy of resources for the proposed project.

(2) In determining the adequacy of resources for the proposed project, the Director considers the following factors:

(i) The adequacy of support, including facilities, equipment, supplies, and other resources, from the applicant organization or the lead applicant organization.

(ii) The relevance and demonstrated commitment of each partner in the proposed project to the implementation and success of the project.

(iii) The extent to which the budget is adequate to support the proposed project.

(iv) The potential for continued support of the project after Federal funding ends, including, as appropriate, the demonstrated commitment of appropriate entities to such support.

5. Quality of the management plan. (10 points)

(1) The Director considers the quality of the management plan for the proposed project.

(2) In determining the quality of the management plan for the proposed project, the Director considers the following factors:

(i) The adequacy of the management plan to achieve the objectives of the proposed project on time and within budget, including clearly defined responsibilities, timelines, and milestones for accomplishing project tasks.

(ii) The adequacy of procedures for ensuring feedback and continuous improvement in the operation of the proposed project.

2. Review and Selection Process: An additional factor we consider in selecting an application for an award is the extent to which an applicant's response to the selection criteria addresses its ability to meet, and its commitment to, the following expectations of the Collections, which will be included in the cooperative agreements between the grantees and the Institute:

a. Create and implement a comprehensive plan for collecting the highest-quality information, especially scientifically based research and resources based on the most rigorous research available, as it pertains to the specific subject/topic area, in a central online Web site for high quality literacy information available for effective integration in teaching and professional development.

b. Nominate key personnel and content area experts, with expertise and knowledge, to work on each subject or topic to assist with identifying and selecting resources and providing technical assistance and training.

c. Collaborate to finalize guidelines, protocols, criteria, quality standards and common design templates for the Resource Collections.

d. Provide information on the application and implementation of how to use featured resources to enhance teaching and learning.

e. Provide content area professional development technical assistance and informational materials to adult education and literacy program administrators, project directors, professional development staff and practitioners via the online Resource Collection and conduct a minimum of two presentation workshops.

f. Gather data for measures established by the Institute concerning training and information dissemination.

g. Integrate a national discussion list into the offerings of the Collections. Depending on the topic area, the Collection shall nominate and manage, upon Institute approval, a discussion list moderator for an existing Institute discussion list to increase and promote active participation on the lists, and to stimulate discussion by posing questions and developing themes for the specific subject areas that fall within the list's topics. For more information, go to: http://www.nifl.gov/nifl/grants_contracts/info.html.

h. Collaborate with other Collections and carry out joint activities when appropriate to maximize impact. Collections project directors and key personnel shall meet two times a year with Institute staff, participate in monthly conference calls, and other telephone meetings, as necessary.

i. Develop a sustainability plan that describes how the Collection plans to sustain the proposed activities after the grant period.

VI. Award Administration Information

1. Award Notices: If your application is successful, we will notify your U.S. Representative and U.S. Senators and send you a Grant Award Notification (GAN). We may also notify you informally. If your application is not evaluated or not selected for funding, we will notify you.

2. Administrative and National Policy Requirements: We identify administrative and national policy requirements in the application package and reference these and other requirements in the Applicable Regulations section of this notice. We reference the regulations outlining the terms and conditions of an award in the Applicable Regulations section of this notice and include these and other specific conditions in the GAN. The GAN also incorporates your approved application as part of your binding commitments under the grant.

3. Reporting: At the end of your project period, you must submit a final performance report, including financial information, as directed by the Institute. If you receive a multi-year award, you must submit semi-annual performance reports, as well as an annual performance report that provides the most current performance and financial expenditure information as specified in 34 CFR 75.118.

4. Performance Measures: Under the Government Performance and Results Act (GPRA), the following measure has been developed for evaluating the overall effectiveness of the Institute's technical assistance and training: The percentage of individuals who receive NIFL technical assistance who can demonstrate that they implemented instructional practices grounded in scientifically based research within six months of receiving the technical assistance. The Institute will expect all grantees to document in the performance reports referenced in section VI.3. of this notice information that addresses this measure.

VII. Agency Contact

For Further Information Contract:

Jo Maralit; National Institute for Literacy; 1775 I Street, NW., Suite 730; Washington, DC 20006; Telephone: 202-233-2028; FAX: 202-233-2050; e-mail: mmaralit@nifl.gov.

If you use a telecommunications device for the deaf (TDD), you may call the Federal Relay Service (FRS) at 1-800-877-8339. Individuals with disabilities may obtain this document in an alternative format (e.g., Braille, large print, audiotape, or computer diskette) on request to the program contact person listed in this section.

VIII. Other Information

Electronic Access to This Document: You may view this document, as well as all other documents of the Institute published in the Federal Register, in text or Adobe Portable Document Format (PDF) on the Internet at the following site: http://www.nifl.gov/nifl/grants_contracts/grants.html. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 2, 2006.
Sandra L. Baxter,
Director.

[FR Doc. 06-6758 Filed 8-4-06; 8:45 am]

BILLING CODE 6055-01-P